SECURITIES AND EXCHANGE COMMISSION

[Release No. 35-27713; 70-10083]

Hydro-Quebec, et al.; Order Granting Limited Approval to Application of Hydro Quebec, et al.

August 15, 2003.

Correction

In notice document 03-21401 beginning on page 50561 in the issue of Thursday, August 21, 2003, make the following correction:

On page 50561, in the first column, the date should appear as set forth above.

[FR Doc. C3-21401 Filed 8-28-03; 8:45 am]

BILLING CODE 1505-01-D

DEPARTMENT OF TRANSPORTATION

Federal Aviation Administration

14 CFR Part 71

[Docket No. FAA-2003-15724; Airspace Docket No. 03-ACE-66]

Modification of Class E Airspace; Centerville, IA

Correction

In rule document 03-21076 beginning on page 49691 in the issue of Tuesday, August 19, 2003, make the following corrections:

§71.1 [Corrected]

1. On page 49692, in the third column, in § 71.1, under the heading “ACE IA E5 Centerville, IA”, in the second line “(Lat. 40°41′02″ N., long. 92°54′00″ W.)” should read “(Lat. 40°41′02″ N., long. 92°54′04″ W.)”.

2. On the same page, in the same column, in the same section, under the same heading, in the 13th line, “6.5-mile radius northwest” should read “6.5-mile radius to 7.4 miles northwest.

[FR Doc. C3-21076 Filed 8-28-03; 8:45 am]

BILLING CODE 1505-01-D